DEPARTMENT OF DEFENSE

Office of the Secretary

Defense Advisory Committee on Military Personnel Testing; Notice of Federal Advisory Committee Meeting

AGENCY: Under Secretary of Defense for Personnel and Readiness, Department of Defense.

ACTION: Notice of Federal advisory committee meeting.

SUMMARY: The Department of Defense (DoD) is publishing this notice to announce that the following Federal Advisory Committee meeting of the Defense Advisory Committee on Military Personnel Testing will take place.

DATES: Thursday, September 20, 2018 and Friday, September 21, 2018. Open to the public Day 1 from 9:00 a.m. to 4:30 p.m.; Day 2 from 9:00 a.m. to 12:00 p.m.

ADDRESSES: Hyatt Place, 425 7th Street South, Minneapolis, MN 55415.

FOR FURTHER INFORMATION CONTACT: Stephanie Miller, (703) 695-5525 (Voice), 703 614-9272 (Facsimile), stephanie.p.miller.civ@mail.mil (Email). Mailing address is Assistant Director, Accession Policy, Office of the Under Secretary of Defense for Personnel and Readiness, Room 3D1066, The Pentagon, Washington, DC 20301-4000.

SUPPLEMENTARY INFORMATION: Due to circumstances beyond the control of the Department of Defense (DoD) and the Designated Federal Officer, the Defense Advisory Committee on Military Personnel Testing was unable to provide public notification required by 41 CFR 102-3.150(a) concerning the meeting on September 20 through 21, 2018 of the Defense Advisory Committee on Military Personnel Testing. Accordingly, the Advisory Committee Management Officer for the Department of Defense, pursuant to 41 CFR 102-3.150(b), waives the 15-calendar day notification requirement.

This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of the meeting is to review planned changes and progress in developing computerized tests for military enlistment screening.

Agenda

Day 1, Thursday, September 20, 2018

9:00 a.m. to 9:15 a.m. Welcome and Opening Remarks Chris Arendt, OASD(M&RA)AP

9:15 a.m. to 9:45 a.m. Accession Policy Update Chris Arendt, Deputy Director, AP

9:45 a.m. to 10:15 a.m. ASVAB Milestones and Project Matrix, Dr. Mary Pommerich, DPAC/OPA

10:15 a.m. to 10:30 a.m. Break

10:30 a.m. to 11:00 a.m. Next Generation ASVAB and ETP Update, Dr. Mary Pommerich

11:00 a.m. to 11:30 a.m. Validity Framework Update Dr. Art Thacker, the Human Resources Research Organization (HumRRO)

11:30 a.m. to 12:15 p.m. Mental Counters Dr. Ping Yin, HumRRO

12:15 p.m. to 1:15 p.m. Lunch

1:15 p.m. to 1:45 p.m. CAT-ASVAB Form 10 Equating Study Dr. Matt Trippe, HumRRO

1:45 p.m. to 2:30 p.m. Sparse Data Dimensionality Assessment Dr. Furong Guo with application to the Cyber Test, HumRRO

2:30 p.m. to 2:45 p.m. Break

2:45 p.m. to 3:15 p.m. Development of New Cyber Test Items and Pools Dr. Matt Trippe

3:15 p.m. to 3:45 p.m. TAPAS Expert Panel Update Dr. Tim McGonigle, HumRRO

3:45 p.m. to 4:30 p.m. Adverse Impact Dr. Greg Manley, DPAC/OPA

4:30 p.m. Adjourn

Day 2, Friday, September 21, 2018

9:00 a.m. to 9:45 a.m. Device Evaluation Dr. Tia Fechter, DPAC/OPA

9:45 a.m. to 10:30 a.m. WK Automated Item Generation Dr. Isaac Bejar, ETS

10:30 a.m. to 10:45 a.m. Break

10:45 a.m. to 11:30 a.m. CEP Update Dr. Shannon Salyer, DPAC/OPA

11:30 a.m. to 11:45 a.m. Future Topics Dr. Daniel Segall

11:45 a.m. to 12:00 p.m. Closing Comments Dr. Neal Schmitt

12:00 p.m. Adjourn

Meeting Accessibility: Pursuant to 5 U.S.C. 552b, as amended and 41 CFR 102-3.140 through 102-3.165, and subject to the availability of space, the meeting is open to the public. Seating is based on a first-come, first-served basis. All members of the public who wish to attend the public meeting must contact the Designated Federal Officer, not later than 12:00 p.m. on Monday, September 17, 2018, as listed in the FOR FURTHER INFORMATION CONTACT section.

Written Statements: Pursuant to 41 CFR 102-3.105(j) and 102-3.140 and section 10(a)(3) of the FACA, interested persons may submit written statements to the Committee at any time about its approved agenda or at any time on the Committee's mission. Written statements should be submitted to the Committee's Designated Federal Officer at the address or facsimile number listed in the FOR FURTHER INFORMATION CONTACT section. If statements pertain to a specific topic being discussed at the planned meeting, then these statements must be submitted no later than five (5) business days prior to the meeting in question. Written statements received after this date may not be provided to or considered by the Committee until its next meeting. The Designated Federal Officer will review all timely submitted written statements and provide copies to all the committee members before the meeting that is the subject of this notice. Please note that since the Committee operates under the provisions of the FACA, all submitted comments and public presentations will be treated as public documents and will be made available for public inspection.

Dated: September 11, 2018.
Aaron T. Siegel,
Alternate OSD Federal Register Liaison Officer, Department of Defense.

[FR Doc. 2018-20020 Filed 9-13-18; 8:45 am]

BILLING CODE 5001-06-P